DEPARTMENT OF THE INTERIOR

Bureau of Land Management

[LLWY950000, L71220000.EU0000, LVTFK2199200, WYW168207]

Notice of Realty Action; Non-Competitive (Direct) Sale of Public Land in Fremont County, Wyoming

AGENCY: Bureau of Land Management, Department of the Interior.

ACTION: Notice of realty action.

SUMMARY: The Bureau of Land Management (BLM) proposes a non-competitive (direct) sale of 24.79 acres of public lands (the parcel) in Fremont County, Wyoming, to the Town of Bairoil pursuant to the Federal Land Policy and Management Act of 1976 (FLPMA), as amended, to allow for community expansion and resolve an unauthorized use of public lands. The sale will be subject to the applicable provisions of section 203 of FLPMA and BLM regulations. The appraised fair market value for the sale parcel is $7,500.00.

DATES: Submit written comments regarding this direct sale, including notification of any encumbrances or other claims relating to the identified lands until December 5, 2022.

ADDRESSES: Mail written comments concerning this notice should be sent to the Field Manager, BLM Lander Field Office, 1335 Main Street, Lander, WY 82520.

FOR FURTHER INFORMATION CONTACT: Leta Rinker, Realty Specialist, at the above address or telephone (307) 332-8405, or you may contact the BLM Lander Field Office at the earlier-listed address.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The following-described public lands are located 1.25 miles northwest of the town of Bairoil, in Fremont County, Wyoming. The parcel has been examined and found suitable for sale under the authority of Section 203 of FLPMA, as amended. The parcel is more specifically identified as:

Sixth Principal Meridian, Wyoming

T. 27 N., R. 90 W.,

Sec. 34, Parcel A.

The area described contains 24.79 acres, according to the official plat of the survey of the parcel on file with the BLM.

The sale is in conformance with the BLM Lander Resource Management Plan, approved on June 26, 2014, which identifies this parcel of public land as suitable for disposal on page 311, parcel number 175. The parcel is not needed for any other federal purpose. Sale of the parcel is not prohibited by Secretarial Order 3373 because it does not provide access for outdoor recreation. The regulations at 43 CFR 2711.3-3(a) permit the BLM to make direct sales of public lands when a competitive sale is not appropriate, and the public interest would be best served by a direct sale. In conformance with the National Environmental Policy Act, the BLM prepared a site-specific environmental assessment (EA) (DOI-BLM WY-R050-2019-0031 EA) that analyzed the sale of this parcel. The BLM issued a finding of no significant impact and decision record on September 23, 2021.

Upon publication of this notice in the Federal Register, the above-described lands will be segregated from all forms of appropriation under the public land laws, including the mining laws, except the sale provisions of FLPMA. Until completion of the sale action, the BLM is not accepting land use applications affecting the identified public land, except applications for the amendment of previously filed rights-of-way applications or existing authorizations to increase the term of the grants in accordance with 43 CFR 2807.15 and 2886.15. This temporary segregation will terminate upon the issuance of a patent, publication in the Federal Register of a termination of the segregation, or on October 21, 2024, unless extended by the BLM Wyoming State Director in accordance with 43 CFR 2711.1-2(d) prior to the termination date.

In addition to this Notice of Realty Action, notice of this sale will also be published once a week for three weeks in the Rawlins Daily Times newspaper. The public land would not be offered for sale to the Town of Bairoil prior to 60 days from the date of publication of this notice in the Federal Register.

The conveyance document, if issued, will be subject to all valid existing rights documented at the time of patent issuance, including the following terms, conditions, and reservations:

1. A rights-of-way thereon for ditches or canals constructed by the authority of the United States, Act of August 30, 1890 (43 U.S.C. 945);

2. All minerals, together with the right to prospect for, mine and remove such deposits from the same under applicable law and such regulations as the Secretary of the Interior may prescribe.

The EA, appraisal, maps, and Environmental Site Assessment are available for review (see the FOR FURTHER INFORMATION CONTACT section above).

Only written comments submitted by postal service or overnight mail to the address in the ADDRESSES section above will be considered as properly filed. Electronic mail, facsimile or telephone comments will not be considered. Before including your address, phone number, email address, or other personal identifying information in your comment, you should be aware that your entire comment—including your personal identifying information—may be made publicly available at any time. While you can ask us in your comment to withhold your personal identifying information from public review, we cannot guarantee that we will be able to do so. Comments, including names and street addresses of respondents, will be available for public review at the BLM Lander Field Office during regular business hours, except holidays.

Any adverse comments regarding the sale will be reviewed by the BLM Wyoming State Director, who may sustain, vacate, or modify this realty action in response to such comments. In the absence of any comments, this realty action will become the final determination of the Department of the Interior.

(Authority: 43 CFR 2711)

Andrew Archuleta,
Wyoming State Director.

[FR Doc. 2022-22679 Filed 10-18-22; 8:45 am]

BILLING CODE 4310-22-P